DEPARTMENT OF JUSTICE

Notice of Lodging Under the Comprehensive Environmental Response, Compensation, and Liability Act

Notice is hereby given that on February 1, 2005, a proposed Stipulation and Agreed Order (“Agreed Order”) in In re Formica Corp., et al., Case No. 02-10969, as well as a proposed agreement which is annexed to the Agreed Order (the “Attachment”), where lodged with the United States Bankruptcy Court for the Southern District of New York. Under the proposed Agreed Order, the United States Environmental Protection Agency (“EPA”) would receive an allowed unsecured claim of $744,523 in connection with the Skinner Landfill Superfund Site in West Chester, Ohio, and an allowed unsecured claim of $4.1 million in connection with the Pristine Superfund Site in Reading, Ohio. Also, under the proposed Agreed Order and Attachment, distributions on EPA's allowed claims would be deposited in special accounts for the Skinner and Pristine sites and earmarked for the benefit of the potentially responsible parties who are performing the remedies for the two sites pursuant to consent decrees which were entered, respectively, in the United States v. Elsa Skinner-Morgan, Civ. Action No. C-1-00-424 (S.D. Ohio), and United States v. American Greetings Corp., Civ. Action No. C-1-89-837 (S.D. Ohio).

For a period of thirty (30) days from the date of this publication, the Department of Justice will receive comments relating to the proposed Agreed Order and Attachment. Comments should be addressed to the Assistant Attorney General, Environment and Natural Resources Division, P.O. Box 7611, U.S. Department of Justice, Washington, DC 20044, and should refer to In re Formica Corp., et al., Case No. 02-10969, D.J. Ref. 90-11-2-07775.

The proposed Agreed Order and Attachment may be examined at the Office of the United States Attorney, 86 Chambers Street, New York, NY 10007, and at U.S. EPA Region 5, 77 West Jackson Boulevard, Chicago, IL 60604. During the public comment period, the proposed Agreed Order and Attachment may also be examined on the following Department of Justice website, http://www.usdoj.gov/enrd/open.html. A copy of the proposed Agreed Order and Attachment may also be obtained by mail from the Consent Decree Library, P.O. Box 7611, U.S. Department of Justice, Washington, DC 20044, or by e-mailing or faxing a request to Tonia Fleetwood, tonia.fleetwood@usdoj.gov, fax no. (202) 514-0097, phone confirmation no. (202) 514-1547. In requesting a copy from the Consent Decree Library, please enclose a check in the amount of $3.00 (25 cents per page reproduction cost) payable to the U.S. Treasury.

William D. Brighton,
Assistant Chief, Environmental Enforcement Section, Environment and Natural Resources Division.

[FR Doc. 05-3009 Filed 2-16-05; 8:45 am]

BILLING CODE 4410-15-M